DEPARTMENT OF TRANSPORTATION

Pipeline and Hazardous Materials Safety Administration

49 CFR Parts 172 and 173

[Docket No. PHMSA-2025-0104 (HM-268P)]

RIN 2137-AG18

Hazardous Materials: Adoption of Department of Transportation Special Permit 21478

AGENCY: Pipeline and Hazardous Materials Safety Administration (PHMSA), Department of Transportation (DOT).

ACTION: Notice of proposed rulemaking (NPRM).

SUMMARY: PHMSA proposes to adopt the provisions of DOT special permit (SP) 21478 into the Hazardous Materials Regulations (HMR). Adoption of this special permit would authorize intermediate bulk containers (IBCs) containing a residue of a certain hazardous materials to be transported without shipping papers, placards, and motor vehicle marking of the UN identification (ID) number subject to additional operational controls. The proposed revisions provide relief from undue burdens of hazard communication requirements for low-risk transportation of empty packaging and eliminate the need for special permit renewal requests.

DATES: Comments must be received on or before September 2, 2025.

ADDRESSES: You may submit comments identified by the Docket Number PHMSA-2025-0104 using any of the following methods:

E-Gov Web: https://www.regulations.gov. This site allows the public to enter comments on any Federal Register notice issued by any agency. Follow the online instructions for submitting comments.

Mail: Docket Management System: U.S. Department of Transportation, 1200 New Jersey Avenue SE, West Building Ground Floor, Room W12-140, Washington, DC 20590-0001.

Hand Delivery: U.S. DOT Docket Management System: West Building Ground Floor, Room W12-140, 1200 New Jersey Avenue SE, between 9 a.m. and 5 p.m., Monday through Friday, except Federal holidays.

Fax: 1-202-493-2251.

Instructions: Please include the docket number PHMSA-2025-0104 at the beginning of your comments. If you submit your comments by mail, submit two copies. If you wish to receive confirmation that PHMSA received your comments, include a self-addressed stamped postcard. Internet users may submit comments at https://www.regulations.gov.

Note: Comments are posted without changes or edits to https://www.regulations.gov, including any personal information provided. There is a privacy statement published on https://www.regulations.gov.

Privacy Act: In accordance with 5 U.S.C. 553(c), DOT solicits comments from the public to inform its rulemaking process. DOT posts these comments, without edit, including any personal information the commenter provides, to https://www.regulations.gov, as described in the system of records notice (DOT/ALL-14 FDMS), which can be reviewed at https://www.dot.gov/privacy.

Confidential Business Information: Confidential Business Information (CBI) is commercial or financial information that is both customarily and actually treated as private by its owner. Under the Freedom of Information Act (FOIA, 5 U.S.C. 552), CBI is exempt from public disclosure. It is important that you clearly designate the comments submitted as CBI if: your comments responsive to this document contain commercial or financial information that is customarily treated as private; you actually treat such information as private; and your comment is relevant or responsive to this notice. You may ask PHMSA to provide confidential treatment to information you give to the agency by taking the following steps: (1) mark each page of the original document submission containing CBI as “Confidential”; (2) send PHMSA, along with the original document, a second copy of the original document with the CBI deleted; and (3) explain why the information that you are submitting is CBI. Submissions containing CBI should be sent to Ryan Larson, Standards and Rulemaking Division, Pipeline and Hazardous Materials Safety Administration (PHMSA), 2nd Floor, 1200 New Jersey Avenue SE, Washington, DC 20590-0001, or by email at ryan.larson@dot.gov. Any materials PHMSA receives that is not specifically designated as CBI will be placed in the public docket.

Docket: For access to the docket to read background documents or comments received, go to http://www.regulations.gov. Follow the online instructions for accessing the docket. Alternatively, you may review the documents in person at the street address listed above.

FOR FURTHER INFORMATION CONTACT: Ryan Larson, Transportation Regulations Specialist, 1200 New Jersey Avenue SE, Washington, DC 20590, 202-366-8553, ryan.larson@dot.gov.

SUPPLEMENTARY INFORMATION:

I. General Discussion

PHMSA proposes to revise certain provisions in Title 49 Chapter I, Parts 172 and 173 of the Code of Federal Regulations (CFR). Currently, the HMR (49 CFR parts 171-180) at § 173.29 generally requires “empty” packagings, including IBCs, containing only residue of a hazardous material to be offered for transportation and transported in the same manner as when they contained a greater quantity of that hazardous material. There are some exceptions to this general requirement, such as for non-bulk (smaller) sized packaging, subject to certain conditions. However, the exceptions do not apply to IBCs. This means that offering or transporting an IBC containing only a residue of a hazardous material would generally still necessitate all hazardous communication for transport—such as shipping papers, labeling, or placarding—and transport vehicle UN ID number marking.

Specifically, the relief provided for an “empty” non-bulk packaging in § 173.29(c) states that non-bulk packaging containing only the residue of hazardous materials covered by Table 2 of § 172.504—a table of comparatively lower hazard Classes and Divisions of materials—are excepted from certain hazard communication requirements of the HMR. These packages do not need to be included in determining the need for placarding and are not subject to the shipping paper requirements when collected and transported by a for-hire or private carrier for reconditioning, remanufacture, or reuse.

PHMSA issued DOT-SP 21478 to grant relief from the requirement to offer for transportation and transport IBCs containing only residue of hazardous materials in a similar manner to that offered to non-bulk packagings. This special permit is currently held by 42 entities. DOT-SP 21478 offers relief for transport of “empty” IBCs subject to conditions and limitations. Specifically, eligible IBCs are those constructed of steel, rigid plastic, and composite IBCs. In addition, hazardous materials contained in the IBCs are limited to those of Class or Division 3, 4.1, 5.1, 6.1, 8, and 9 hazardous materials in packing groups II and III. Further, the IBCs are still required to be marked and labelled, maintaining important methods of hazard communication for handling and compatibility purposes and in the event of an accident requiring an emergency response. Lastly, by limiting the capacity of the IBCs, the safety concerns surrounding the actual quantities of residue are further mitigated.

In granting this special permit, PHMSA evaluated the safety hazards associated with the hazard communication exceptions and determined that there is an equivalent level of safety between transportation of “empty” IBCs and “empty” non-bulk packages. PHMSA also notes that, comparatively, the typical quantities of residue in these IBCs are less than the quantities that the Environmental Protection Agency (EPA) considers for a container to be empty under its Resource Conservation and Recovery Act regulations for residues of hazardous waste. EPA defines this amount as 0.3% or less of material by weight of the total capacity for a container greater than 119 gallons—the cutoff for a packaging to be considered non-bulk. Anything greater is bulk and IBCs are considered bulk packagings (see 40 CFR 261.7). As part of the evaluation, PHMSA determined there were no compliance violations or incidents associated with transportation conducted under this special permit.

PHMSA proposes to adopt the provisions of DOT-SP 21478 into a new paragraph (d) in § 173.29 (and redesignate the current paragraphs in the section) to authorize the transportation of “empty” IBCs, in a similar manner to non-bulk packagings allowed in § 173.29(c). PHMSA is also proposing a conforming amendment to § 172.514 to make clear that IBCs shipped in accordance with the conditions of the empty packaging exception are not subject to placarding. PHMSA is proposing to make conforming amendments in § 172.331 “Bulk packagings other than portable tanks, cargo tanks, tank cars and multi-unit tank car tanks,” § 172.504, “General placarding requirements,” and § 172.514, “Bulk packagings.” These proposed revisions accommodate the changes proposed in § 173.29 discussed above. PHMSA does not expect the proposed HMR revisions to have any adverse impact on safety.

II. Regulatory Analysis and Notices

A. Legal Authority

This proposed rule is published under the authority of the Secretary of Transportation set forth in the Federal Hazardous Materials Transportation laws (49 U.S.C. 5101 et seq.) and delegated to the PHMSA Administrator pursuant to 49 CFR 1.97.

B. Executive Orders 12866; Regulatory Planning and Review

Executive Order (E.O.) 12866 (“Regulatory Planning and Review”),¹ as implemented by DOT Order 2100.6B (“Policies and Procedures for Rulemaking”), requires agencies to regulate in the “most cost-effective manner,” to make a “reasoned determination that the benefits of the intended regulation justify its costs,” and to develop regulations that “impose the least burden on society.” DOT Order 2100.6B specifies that regulations should generally “not be issued unless their benefits are expected to exceed their costs.” In arriving at those conclusions, E.O. 12866 requires that agencies should consider “both quantifiable measures . . . and qualitative measures of costs and benefits that are difficult to quantify” and “maximize net benefits . . . unless a statute requires another regulatory approach.” E.O. 12866 also requires that “agencies should assess all costs and benefits of available regulatory alternatives, including the alternative of not regulating.” DOT Order 2100.6B directs that PHMSA and other Operating Administrations must generally choose the “least costly regulatory alternative that achieves the relevant objectives” unless required by law or compelling safety need.

¹ 58 FR 51735 (Oct. 4, 1993).

E.O. 12866 and DOT Order 2100.6B also require that PHMSA submit “significant regulatory actions” to the Office of Information and Regulatory Affairs (OIRA) within the Executive Office of the President's Office of Management and Budget (OMB) for review. This proposed rule is a not significant regulatory action pursuant to E.O. 12866; it also has not designated this rule as a “major rule” as defined by the Congressional Review Act (5 U.S.C. 801 et seq.).

PHMSA has complied with the requirements in E.O. 12866 as implemented by DOT Order 2100.6B and made a preliminary determination that this proposed rule would result in cost savings by reducing regulatory burdens and regulatory uncertainty for affected entities by providing relief from regulatory requirements to those offering and transporting empty IBCs containing only hazardous materials residue. PHMSA expects those cost savings would also result in reduced costs for the public to whom those entities generally transfer a portion of their compliance costs.

C. Executive Orders 14192 and 14219

This proposed rule, if finalized as proposed, is expected to be an E.O. 14192 deregulatory action.² PHMSA seeks data that would be helpful to generate an estimate of the cost savings from this rule. PHMSA's initial estimates are that the total costs of the rule on the regulated community will be less than zero. Nor does this proposed rule does implicate any of the factors identified in section 2(a) of E.O. 14219 indicative of a regulation that is “unlawful . . . [or] that undermine[s] the national interest.” ³

² 90 FR 9065 (Jan. 31, 2025).

³ 90 FR 10583 (Feb. 19, 2025).

D. Energy-Related Executive Orders 13211, 14154, and 14156

The President has declared in E.O. 14156 (“Declaring a National Energy Emergency”) ⁴ a national emergency to address the United States's inadequate energy development production, transportation, refining, and generation capacity. Similarly, E.O. 14154 (“Unleashing American Energy”) ⁵ asserts a Federal policy to unleash American energy by ensuing access to abundant supplies of reliable, affordable energy from (inter alia) the removal of “undue burden[s]” on the identification, development, or use of domestic energy resources such as PHMSA-jurisdictional offerors and carriers. PHMSA preliminarily finds this proposed rule is consistent with each of E.O. 14156 and E.O. 14154. The proposed rule would give affected entities relief from the HMR when offering or transporting empty IBCs containing only residue, many of which are used for the transportation of petroleum products, lubricants, and other chemicals in the construction and energy industries. PHMSA therefore expects the regulatory amendments in this proposed rule would in turn facilitate affected entities' ability to provide abundant, reliable, and affordable products in response to residential, commercial, and industrial demand.

⁴ 90 FR 8353 (Jan. 29, 2025).

⁵ 90 FR 8353 (Jan. 29, 2025).

However, this proposed rule is not a “significant energy action” under E.O. 13211 (“Actions Concerning Regulations That Significantly Affect Energy Supply, Distribution, or Use”),⁶ which requires Federal agencies to prepare a Statement of Energy Effects for any “significant energy action.” Because this proposed rule is not a significant action under E.O. 12866, it would not have a significant adverse effect on supply, distribution, or energy use; OIRA has therefore not designated this proposed rule as a significant energy action.

⁶ 66 FR 28355 (May 22, 2001).

E. Executive Order 13132: Federalism

PHMSA analyzed this proposed rule in accordance with the principles and criteria contained in E.O. 13132 (“Federalism”) ⁷ and the Presidential Memorandum (“Preemption”) published in the Federal Register on May 22, 2009.⁸ E.O. 13132 requires agencies to assure meaningful and timely input by State and local officials in the development of regulatory policies that may have “substantial direct effects on the States, on the relationship between the National Government and the States, or on the distribution of power and responsibilities among the various levels of government.” The Federal Hazardous Materials Transportation laws contain an express preemption provision at 49 U.S.C. 5125(b) that preempts state, local, and tribal requirements on certain covered subjects, unless the non-federal requirements are “substantively the same” as the federal requirements, including the following:

⁷ 64 FR 43255 (Aug. 10, 1999).

⁸ 74 FR 24693 (May 22, 2009).

(1) The designation, description, and classification of hazardous material;

(2) The packing, repacking, handling, labeling, marking, and placarding of hazardous material;

(3) The preparation, execution, and use of shipping documents related to hazardous material and requirements related to the number, contents, and placement of those documents;

(4) The written notification, recording, and reporting of the unintentional release in transportation of hazardous material; and

(5) The design, manufacture, fabrication, inspection, marking, maintenance, recondition, repair, or testing of a packaging or container represented, marked, certified, or sold as qualified for use in transporting hazardous material in commerce.

This proposed rule addresses covered subject items (1), (2), and (3) above and would preempt state, local, and Tribal requirements not meeting the “substantively the same” standard. While the proposed rule may operate to preempt some State requirements, it would not impose any regulation that has substantial direct effects on the States, the relationship between the National Government and the States, or the distribution of power and responsibilities among the various levels of government. The preemptive effect of the regulatory amendments in this proposed rule is limited to the minimum level necessary to achieve the objectives of the Federal Hazardous Materials Transportation Laws. Therefore, the consultation and funding requirements of E.O. 13132 do not apply.

F. Regulatory Flexibility Act

The Regulatory Flexibility Act (5 U.S.C. 601 et seq.) requires Federal agencies to conduct an Initial Regulatory Flexibility Analysis (IRFA) for a proposed rule subject to notice-and-comment rulemaking under the APA unless the agency head certifies that the proposed rule in the rulemaking would not have a significant economic impact on a substantial number of small entities. E.O. 13272 (“Proper Consideration of Small Entities in Agency Rulemaking”) ⁹ obliges agencies to establish procedures promoting compliance with the Regulatory Flexibility Act. DOT posts its implementing guidance on a dedicated web page.¹⁰ This proposed rule was developed in accordance with E.O. 13272 and DOT implementing guidance to ensure compliance with the Regulatory Flexibility Act. The proposed rule is expected to reduce burdens. Therefore, PHMSA certifies the proposed rule does not have a significant impact on a substantial number of small entities.

⁹ 67 FR 53461 (Aug. 16, 2002).

¹⁰ DOT, “Rulemaking Requirements Related to Small Entities,” https://www.transportation.gov/regulations/rulemaking-requirements-concerning-small-entities (last accessed Sept 3, 2024).

G. Unfunded Mandates Reform Act of 1995

The Unfunded Mandates Reform Act (UMRA, 2 U.S.C. 1501 et seq.) requires agencies to assess the effects of Federal regulatory actions on State, local, and Tribal governments, and the private sector. For any proposed or final rule that includes a Federal mandate that may result in the expenditure by state, local, and Tribal governments, in the aggregate of $100 million or more (in 1996 dollars) in any given year, the agency must prepare, amongst other things, a written statement that qualitatively and quantitatively assesses the costs and benefits of the Federal mandate.

This proposed rule does not impose unfunded mandates under UMRA because it does not result in costs of $100 million or more (in 1996 dollars) per year for either State, local, or Tribal governments, or to the private sector.

H. National Environmental Policy Act

The National Environmental Policy Act (NEPA, 42 U.S.C. 4321 et seq.) requires that Federal agencies assess and consider the impact of major Federal actions on the human and natural environment.

PHMSA analyzed this proposed rule in accordance with NEPA and has preliminarily determined that the rulemaking would not adversely affect safety and therefore would not significantly affect the quality of the human and natural environment. The public is invited to comment on the impact of the proposed action.

I. Executive Order 13175

PHMSA analyzed this proposed rule according to the principles and criteria in E.O. 13175 (“Consultation and Coordination with Indian Tribal Governments”) ¹¹ and DOT Order 5301.1A (“Department of Transportation Tribal Consultation Policies and Procedures”). E.O. 13175 requires agencies to assure meaningful and timely input from Tribal government representatives in the development of rules that significantly or uniquely affect Tribal communities by imposing “substantial direct compliance costs” or “substantial direct effects” on such communities or the relationship or distribution of power between the Federal government and Tribes.

¹¹ 65 FR 67249 (Nov. 9, 2000).

PHMSA assessed the impact of the proposed rule and determined that it would not significantly or uniquely affect Tribal communities or Indian Tribal governments. The rulemaking's regulatory amendments have a broad, national scope; therefore, this proposed rule would not significantly or uniquely affect Tribal communities, much less impose substantial compliance costs on Native American Tribal governments or mandate Tribal action. For these reasons, PHMSA has concluded that the funding and consultation requirements of E.O. 13175 and DOT Order 5301.1A do not apply.

J. Paperwork Reduction Act

The Paperwork Reduction Act (44 U.S.C. 3501 et seq.) and its implementing regulations at 5 CFR 1320.8(d) requires that PHMSA provide interested members of the public and affected agencies with an opportunity to comment on information collection and recordkeeping requests. This rulemaking eliminates the need for persons to renew a special permit, resulting in a decrease in paperwork burden for special permit holders. PHMSA estimates the reduction in information collection burden as follows:

OMB Control No. 2137-0051: Rulemaking, Special Permits, and Preemption Requirements.

Decrease in Annual Number of Respondents: 11.

Decrease in Annual Responses: 11.

Decrease in Annual Burden Hours: 16.

Decrease in Annual Burden Cost: $0.

This proposed rule also creates a requirement for shippers using the new provisions in § 173.29 to have a document (in paper or electronic form), in lieu of a shipping paper, accompanying the IBCs that denotes the phrase “Residue IBC(s)” and indicates the number of IBCs containing hazardous materials for each Class or Division of material transported on transport vehicle. PHMSA estimates that 44 respondents will ship 50 shipments per year under this provision resulting in 2,200 shipments per year. PHMSA estimate it will take 30 seconds each for offerors to create this certification resulting in 19 burden hours (2,200 responses × 30 seconds per response). PHMSA will place this information collection under OMB Control Number 2134-0034 “Shipping Papers and Emergency Response Information.” PHMSA estimates there are no additional burden cost associated with this information collection.

PHMSA specifically requests comments on the information collection and recordkeeping burdens associated with developing, implementing, and maintaining these requirements for approval under this NPRM. Address written comments to the Dockets Unit as identified in the ADDRESSES section of this NPRM. PHMSA must receive comments regarding information collection burdens prior to the close of the comment period identified in the DATES section of this NPRM. Notwithstanding any other provision of law, no person is required to respond to a collection of information unless such collection displays a valid Office of Management and Budget (OMB) control number.

Please direct your requests for a copy of this information collection to Steven Andrews, Office of Hazardous Materials Standards (PHH-12), Pipeline and Hazardous Materials Safety Administration, 1200 New Jersey Avenue SE, 2nd Floor, Washington, DC 20590-0001.

K. Executive Order 13609 and International Trade Analysis

E.O. 13609 (“Promoting International Regulatory Cooperation”) ¹² requires agencies consider whether the impacts associated with significant variations between domestic and international regulatory approaches are unnecessary or may impair the ability of American business to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements.

¹² 77 FR 26413 (May 4, 2012).

Similarly, the Trade Agreements Act of 1979 (Pub. L. 96-39), as amended by the Uruguay Round Agreements Act (Pub. L. 103-465), prohibits Federal agencies from establishing any standards or engaging in related activities that create unnecessary obstacles to the foreign commerce of the United States. For purposes of these requirements, Federal agencies may participate in the establishment of international standards, so long as the standards have a legitimate domestic objective, such as providing for safety, and do not operate to exclude imports that meet this objective. The statute also requires consideration of international standards and, where appropriate, that they be the basis for U.S. standards.

PHMSA engages with international standards setting bodies to protect the safety of the American public. PHMSA has assessed the effects of the proposed rule and has determined that its regulatory amendments would not cause unnecessary obstacles to foreign trade.

L. Cybersecurity and Executive Order 14028

E.O. 14028 (“Improving the Nation's Cybersecurity”) ¹³ directed the Federal government to improve its efforts to identify, deter, and respond to “persistent and increasingly sophisticated malicious cyber campaigns.” PHMSA has considered the effects of the proposed rule and has determined that its regulatory amendments would not materially affect the cybersecurity risk profile for affected entities.

¹³ 86 FR 26633 (May 17, 2021).

List of Subjects

49 CFR Part 172

Education, Hazardous materials transportation, Hazardous waste, Incorporation by reference, Labeling, Markings, Packaging and containers, Reporting and recordkeeping requirements.

49 CFR Part 173

Hazardous materials transportation, packaging and containers, radioactive materials, uranium, reporting, and recordkeeping requirements.

In consideration of the foregoing, PHMSA proposes to amend 49 CFR chapter I as follows:

PART 172—HAZARDOUS MATERIALS TABLE, SPECIAL PROVISIONS, HAZARDOUS MATERIALS COMMUNICATIONS, EMERGENCY RESPONSE INFORMATION, TRAINING REQUIREMENTS, AND SECURITY PLANS

1. The authority citation for part 172 continues to read as follows:

Authority: 49 U.S.C. 5101-5128, 44701; 49 CFR 1.81, 1.96, and 1.97.

2. In § 172.331, add new paragraph (d) to read as follows:

§ 172.331 Bulk packagings other than portable tanks, cargo tanks, tank cars and multi-unit tank car tanks.

* * * * *

(d) Exceptions. Transport vehicles or freight containers used to transport empty IBCs in accordance with § 173.29(d) of this subchapter are not subject to identification number marking requirements.

3. In § 172.504, revise paragraph (d) to read as follows:

§ 172.504 General placarding requirements.

* * * * *

(d) Exceptions for empty packages.

(1) Non-bulk. Except for hazardous materials subject to § 172.505, a non-bulk packaging that contains only the residue of a hazardous material covered by Table 2 of paragraph (e) of this section need not be included in determining placarding requirements.

(2) IBCs. Transport vehicles or freight containers used to transport empty IBCs in accordance with § 173.29(d) of this subchapter are not subject to placarding requirements of this part.

* * * * *

4. In § 172.514, revise paragraph (b) to read as follows:

§ 172.514 Bulk packagings.

* * * * *

(b) Each bulk packaging that is required to be placarded when it contains a hazardous material, must remain placarded when it is emptied, unless it—

(1) Is sufficiently cleaned of residue and purged of vapors to remove any potential hazard;

(2) Is refilled, with a material requiring different placards or no placards, to such an extent that any residue remaining in the packaging is no longer hazardous;

(3) Contains the residue of a hazardous substance in Class 9 in a quantity less than the reportable quantity, and conforms to § 173.29(b)(1) of this subchapter; or

(4) Is an empty IBC transported in accordance with § 173.29(d).

* * * * *

PART 173—SHIPPERS—GENERAL REQUIREMENTS FOR SHIPMENTS AND PACKAGINGS

5. The authority citation for part 173 continues to read as follows:

Authority: 49 U.S.C. 5101-5128, 44701; 49 CFR 1.81, 1.96 and 1.97.

6. In § 173.29, redesignate current paragraphs (d) through (h) as paragraphs (e) through (i) and add new paragraph (d) to read as follows:

§ 173.29 Empty packagings.

* * * * *

(d) A steel, rigid plastic, or composite IBC not exceeding 2,100 L (550 gallons) containing only the residue of hazardous materials in packing group II or III of hazard Class or Division 3, 4.1, 5.1, 6.1, 8, and 9, are excepted from subpart C (shipping papers). Furthermore, transport vehicles and freight containers are not subject to the subpart F (placarding) of Part 172 of this subchapter and the marking requirements in § 172.331 (UN ID Number), provided the following conditions are met:

(1) Prior to shipment, the offeror must ensure that no more than 0.3 percent by weight of the total capacity of the IBC remains in the packaging;

(2) IBCs must be transported in a fully enclosed transport vehicle or freight container;

(3) Transportation is only authorized to a reconditioning, remanufacturing, requalification, disposal, or repair facility;

(4) A document (in paper or electronic form) must accompany the IBCs that denotes the phrase “Residue IBC(s)” and indicates the number of IBCs containing hazardous materials for each Class or Division of material transported on transport vehicle;

(5) IBCs shall be marked and labeled in accordance with subpart D (marking) and subpart E (labeling) of Part 172 of this subchapter; and

(6) Transportation is authorized for only motor vehicle or rail.

* * * * *

Issued in Washington, DC, on June 26, 2025, under the authority delegated in 49 CFR 1.97.
Benjamin D. Kochman,
Acting Administrator.

[FR Doc. 2025-12090 Filed 6-27-25; 4:15 pm]

BILLING CODE 4910-60-P